DEPARTMENT OF THE TREASURY

Submission for OMB Review; Comment Request

September 24, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW Washington, DC 20220.

Dates: Written comments should be received on or before November 3, 2003 to be assured of consideration.

Internal Revenue Service (IRS)

OMB Number: 1545-0115.

Form Number: IRS Form 1099-MISC.

Type of Review: Extension.

Title: Miscellaneous Income.

Description: Form 1099-MISC is used by payers to report payments of $600 or more of rents, prizes and awards, medical and health care payments, nonemployee compensation, and crop insurance proceeds, $10 or more of royalties, any amount of fishing boat proceeds, certain substitute payments, golden parachute payments and an indication of direct sales of $5,000 or more.

Respondents: Business or other for-profit, Individuals or households, Not-for-profit institutions, Farms, Federal Government, State, Local or Tribal Government.

Estimated Number of Respondents: 4,302,217.

Estimated Burden Hours Respondent: 16 minutes.

Frequency of Response: Annually.

Estimated Total Reporting Burden: 21,649,027 hours.

OMB Number: 1545-0984.

Form Number: IRS Form 8586.

Type of Review: Revision.

Title: Low-Income Housing Credit.

Description: The Tax Reform Act of 1986 (Code section 42) permits owners of residential rental projects providing low-income housing to claim a credit against income tax for part of the cost of constructing or rehabilitating such low-income housing. Form 8586 is used by taxpayers to compute the credit and by IRS to verify that the correct credit has been claimed.

Respondents: Individuals or households, Business or other for-profit.

Estimated Number of Respondents/Recordkeepers: 168,137.

Estimated Burden Hours Respondent/Recordkeeper:

Recordkeeping—7 hr., 53 min.

Learning about the law or the form—1 hr., 37 min.

Preparing the form—3 hr., 41 min.

Copying, assembling, and sending the form to the IRS—.32 min.

Frequency of Response: Annually.

Estimated Total Reporting/Recordkeeping Burden: 2,311,884 hours.

OMB Number: 1545-1282.

Form Number: IRS Form 8830.

Type of Review: Extension.

Title: Enhanced Oil Recovery Credit.

Description: The enhanced oil recovery credit is 15% of qualified costs paid or incurred during the year. The purpose is to get more oil from the wells. The IRS uses the information on the form to ensure that the credit is correctly computed.

Respondents: Business or other for-profit, Individuals or households.

Estimated Number of Respondents/Recordkeepers: 3,623.

Estimated Burden Hours Respondent/Recordkeeper:

Recordkeeping—6 hr., 56 min.

Learning about the law or the form—1 hr., 5 min.

Preparing and sending the form to the IRS—1 hr., 15 min.

Frequency of Response: Annually.

Estimated Total Reporting/Recordkeeping Burden: 33,622 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 03-25153 Filed 10-2-03; 8:45 am]

BILLING CODE 4830-01-P